DEPARTMENT OF ENERGY

Federal Energy Regulatory Commission

Combined Notice of Filings

Take notice that the Commission has received the following Natural Gas Pipeline Rate and Refund Report filings:

Filings Instituting Proceedings

Docket Numbers: PR24-13-000.

Applicants: Dow Pipeline Company.

Description: 284.123(g) Rate Filing: Notice of Name Change and Revised Statement to be effective 11/1/2023.

Filed Date: 11/28/23.

Accession Number: 20231128-5094.

Comment Date: 5 p.m. ET 12/19/23.

284.123(g) Protest: 5 p.m. ET 1/29/24.

Docket Numbers: PR24-14-000.

Applicants: Dow Intrastate Gas Company.

Description: 284.123(g) Rate Filing: Notice of Name Change and Revised Statement to be effective 11/1/2023.

Filed Date: 11/28/23.

Accession Number: 20231128-5106.

Comment Date: 5 p.m. ET 12/19/23.

284.123(g) Protest: 5 p.m. ET 1/29/24.

Docket Numbers: RP24-172-000.

Applicants: El Paso Natural Gas Company, L.L.C.

Description: 4(d) Rate Filing: Negotiated Rate Agreements Update (Pioneer Dec 2023) to be effective 12/1/2023.

Filed Date: 11/28/23.

Accession Number: 20231128-5072.

Comment Date: 5 p.m. ET 12/11/23.

Docket Numbers: RP24-173-000.

Applicants: Young Gas Storage Company, Ltd.

Description: 4(d) Rate Filing: Annual Fuel Filing 2023 to be effective 1/1/2024.

Filed Date: 11/28/23.

Accession Number: 20231128-5117.

Comment Date: 5 p.m. ET 12/11/23.

Docket Numbers: RP24-174-000.

Applicants: El Paso Natural Gas Company, L.L.C.

Description: 4(d) Rate Filing: Article 11.2(a) Inflation Adjustment Filing 2024 to be effective 1/1/2024.

Filed Date: 11/28/23.

Accession Number: 20231128-5152.

Comment Date: 5 p.m. ET 12/11/23.

Docket Numbers: RP24-175-000.

Applicants: Portland Natural Gas Transmission System.

Description: 4(d) Rate Filing: NR Agmts—Emera 284283-1 and NEGG 285560 to be effective 11/29/2023.

Filed Date: 11/28/23.

Accession Number: 20231128-5157.

Comment Date: 5 p.m. ET 12/11/23.

Docket Numbers: RP24-176-000.

Applicants: Tennessee Gas Pipeline Company, L.L.C.

Description: Compliance filing: Cashout Report 2022-2023 to be effective N/A.

Filed Date: 11/29/23.

Accession Number: 20231129-5017.

Comment Date: 5 p.m. ET 12/11/23.

Docket Numbers: RP24-177-000.

Applicants: El Paso Natural Gas Company, L.L.C.

Description: 4(d) Rate Filing: Negotiated Rate Agreement Update (Conoco Dec 2023) to be effective 12/1/2023.

Filed Date: 11/29/23.

Accession Number: 20231129-5059.

Comment Date: 5 p.m. ET 12/11/23.

Docket Numbers: RP24-178-000.

Applicants: El Paso Natural Gas Company, L.L.C.

Description: 4(d) Rate Filing: Negotiated Rate Agreement Update (SoCal Dec 23) to be effective 12/1/2023.

Filed Date: 11/29/23.

Accession Number: 20231129-5064.

Comment Date: 5 p.m. ET 12/11/23.

Docket Numbers: RP24-179-000.

Applicants: Stagecoach Pipeline & Storage Company LLC.

Description: 4(d) Rate Filing: Negotiated Rate Agreements Filing—EQT Energy (388082_388083) to be effective 12/1/2023.

Filed Date: 11/29/23.

Accession Number: 20231129-5066.

Comment Date: 5 p.m. ET 12/11/23.

Docket Numbers: RP24-180-000.

Applicants: Southern Natural Gas Company, L.L.C.

Description: Compliance filing: Annual Report on Operational Transactions 2023 to be effective N/A.

Filed Date: 11/29/23.

Accession Number: 20231129-5089.

Comment Date: 5 p.m. ET 12/11/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP19-73-009.

Applicants: El Paso Natural Gas Company, L.L.C.

Description: Compliance filing: Motion to Place 2024 Settlement Rates Into Effect to be effective 1/1/2024.

Filed Date: 11/28/23.

Accession Number: 20231128-5074.

Comment Date: 5 p.m. ET 12/11/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 29, 2023.
Kimberly D. Bose,
Secretary.

[FR Doc. 2023-26643 Filed 12-4-23; 8:45 am]

BILLING CODE 6717-01-P